ENVIRONMENTAL PROTECTION AGENCY

40 CFR Part 300

[FRL-7924-5]

National Oil and Hazardous Substances Pollution Contingency Plan National Priorities List

AGENCY: Environmental Protection Agency.

ACTION: Direct final notice of deletion of Metropolitan Mirror and Glass (MM&G) Superfund Site from the National Priorities List.

SUMMARY: The Environmental Protection Agency (EPA) Region 3 is publishing a direct final notice of deletion of the MM&G, Superfund Site (Site), located in Frackville, Schuylkill County, Commonwealth of Pennsylvania, from the National Priorities List (NPL).

The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with concurrence of the Commonwealth of Pennsylvania, through the Pennsylvania Department of Environmental Protection (PADEP), because EPA has determined that all appropriate response actions under CERCLA have been completed and, therefore, further remedial action pursuant to CERCLA is not appropriate.

DATES: This direct final deletion will be effective August 16, 2005 unless EPA receives adverse comments by July 18, 2005. If adverse comments are received, EPA will publish a timely withdrawal of the direct final deletion in the Federal Register informing the public that the deletion will not take effect.

ADDRESSES: Comments may be mailed to: Eugene Dennis (3HS21), Remedial Project Manager, U.S. Environmental Protection Agency, Region 3, 1650 Arch Street, Philadelphia, Pennsylvania, 19103-2029, (215) 814-5254 or (800) 553-2509.

Information Repositories: Comprehensive information about the Site is available for viewing and copying at the Site information repositories located at: Regional Center for Environmental Information, U.S. EPA, Region 3, 1650 Arch Street, Philadelphia, Pennsylvania, 19103, (215) 814-5254 or (800) 553-2509, Monday through Friday 8 a.m. to 4:30 p.m.; West Mahanoy Township Building, 190 Pennsylvania Avenue, Shenandoah, Pennsylvania 17976, (570) 462-2958.

FOR FURTHER INFORMATION CONTACT: Eugene Dennis (3HS21), Remedial Project Manager, U.S. EPA, Region 3, 1650 Arch Street, Philadelphia, Pennsylvania, 19103-2029. Telephone (215) 814-3202 or (800) 553-2509, e-mail address: dennis.eugene@epa.gov.

SUPPLEMENTARY INFORMATION:

Table of Contents

I. Introduction

II. NPL Deletion Criteria

III. Deletion Procedures

IV. Basis for Intended Site Deletion

V. Deletion Action

I. Introduction

EPA Region 3 is publishing this direct final notice of deletion of the MM&G Superfund Site from the NPL.

EPA identifies sites that appear to present a significant risk to public health or the environment and maintains the NPL as the list of those sites. As described in the § 300.425(e)(3) of the NCP, sites deleted from the NPL remain eligible for remedial actions if conditions at a deleted site warrant such action.

Because EPA considers this action to be noncontroversial and routine, EPA is taking it without prior publication of notice of intent to delete. This action will be effective August 16, 2005 unless EPA receives adverse comments by July 18, 2005. If adverse comments are received within the 30-day public comment period on this document, EPA will publish a timely withdrawal of this direct final deletion before the effective date of the deletion and the deletion will not take effect. EPA, as appropriate, will prepare a response to comments and continue with the deletion process on the basis of the notice of intent to delete and the comments already received. There will be no additional opportunity to comment.

Section II of this document explains the criteria for deleting sites from the NPL. Section III discusses the procedures that EPA is using for this action. Section IV discusses the MM&G Superfund Site and demonstrates how it meets the deletion criteria. Section V discusses EPA's action to delete the Site from the NPL unless adverse comments are received during the public comment period.

II. NPL Deletion Criteria

Section 300.425(e)(1) of the NCP provides that releases may be deleted from the NPL where no further response is appropriate. In making a determination to delete a Site from the NPL, EPA shall consider, in consultation with the State (PADEP), whether any of the following criteria have been met:

(i) Responsible parties or other parties have implemented all appropriate response actions required;

(ii) All appropriate Fund-financed (Hazardous Substance Superfund Response Trust Fund) response under CERCLA has been implemented, and no further action by responsible parties is appropriate; or

(iii) The remedial investigation has shown that the release poses no significant threat to public health or the environment and, therefore, remedial measures are not appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information which indicates a need for further action becomes available, EPA may initiate remedial actions. Whenever there is a significant release from a site deleted from the NPL, the deleted site may be restored to the NPL without application of the hazard ranking system.

III. Deletion Procedures

The following procedures were used for the intended deletion of this Site:

1. EPA consulted with Pennsylvania on the deletion of the Site from the NPL prior to developing this direct final notice of deletion.

2. Pennsylvania concurred with the deletion of the Site from the NPL.

3. Concurrently with the publication of this direct final notice of deletion, a notice of the availability of the parallel notice of intent to delete published today in the “Proposed Rules” section of the Federal Register is being published in a major local newspaper of general circulation at or near the Site and is being distributed to appropriate Federal, State, and local officials and other interested parties; the newspaper notice announces the 30-day public comment period concerning the notice of intent to delete the Site from the NPL.

4. EPA placed copies of documents supporting the deletion in the Site information repositories identified above.

5. If adverse comments are received within the 30-day public comment period on this notice or the companion notice of intent to delete also published in today's Federal Register, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

The following information provides the EPA's rationale for deleting this Site from the NPL:

Site Location

The Site is approximately 12.5 acres and is located on Industrial Park Road in Frackville, Schuylkill County, Pennsylvania. To facilitate Site investigations, the Site, as a whole, was treated as one operable unit (OU) divided into five areas of concern (AOCs), according to geographic features and suspected waste-handling activities: AOC 1, the north building area, which includes the drum storage area and the suspected spill area; AOC 2, existing wastewater settling lagoons; AOC 3, dredge material disposal area; AOC 4, former lagoon area; and AOC 5, south parking lot area.

Site History

The Site is at the intersection of Industrial Park Road and Altamount Boulevard in Frackville, Pennsylvania. The Site covers approximately 12.5 acres, including several rights-of-way for utilities, Interstate 81, and a former (abandoned) railroad. Developments on the Site are a single-story manufacturing building, a small pump house, a water tower, two lagoons, three drainage ditches, a small building connected to the north wall of the manufacturing building and a water-supply well located inside the pump house. A parking lot is along the south wall of the manufacturing building.

Before 1959, the Site was owned by the Kimerling Estate. In 1959, the Kimerling Estate sold the Site to the Frackville Merchants Association, which subsequently donated the Site to Greater Pottsville Industrial Development Corporation (GPIDC). MM&G purchased the Site from GPIDC in 1959 and operated the facility until 1982 when it declared bankruptcy. The Site then was acquired by National Patent Development Corporation, which sold the Site and facilities to the St. Jude Polymer Company in May 1987. St. Jude Polymer Company operates a plastic-bottle recycling center on the Site.

Between 1959 and May 1982, MM&G manufactured mirrors at the Site. The manufacturing was a five-stage assembly line process. The process used silver solutions, paint strippers, paint thinners and other solvents.

Under the direction of PADEP, an initial sampling event was conducted by BES Environmental in August 1987. Between 1988 and 1990, NUS Corporation performed three phases of site inspection under the direction of EPA. A preliminary assessment that identified areas of concern and performed limited sampling was completed in 1989. A screening site inspection report was completed in 1989 and a listing site inspection report was completed in 1990. The groundwater, surface water and sediments in Stony Creek and drainage ditches also were sampled during the initial investigation.

The Site was formally added to the NPL on October 14, 1992.

Record of Decision

The alternative EPA has selected for this Site is “No Action.” Under this alternative, EPA requires no action beyond the removal action that took place at the Site in the spring and summer of 1997. EPA has determined that contaminants in groundwater and sediment are not site-related. There is no cost associated with the No Action alternative.

EPA has determined that its response at the Site is complete and no action is necessary at the Site. Therefore, all construction is complete.

Five-Year Review

In accordance with CERCLA section 121 (c), a five-year review for the Site was completed in December 2003. No further five-year review will be conducted for the Site as no hazardous substances, pollutants, or contaminants remain on Site that exceed levels that allow for unlimited use and unrestricted exposure.

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of Pennsylvania, has determined that all appropriate responses under CERCLA have been completed, and that no further response actions, under CERCLA, are necessary.

Because EPA considers this action to be noncontroversial and routine, EPA is taking it without prior publication of notice of intent to delete. This action will be effective August 16, 2005 unless EPA receives adverse comments by July 18, 2005. If adverse comments are received within the 30-day public comment period on this document, EPA will publish a timely withdrawal of this direct final deletion before the effective date of the deletion and the deletion will not take effect. EPA will prepare, as appropriate, a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: May 31, 2005.
Richard J. Kampf,
Acting Regional Administrator, Region 3.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to part 300 is amended under Pennsylvania (PA) by removing the site name “Metropolitan Mirror and Glass” and the city “Frackville.”

[FR Doc. 05-11827 Filed 6-16-05; 8:45 am]

BILLING CODE 6560-50-P